DEPARTMENT OF HEALTH AND HUMAN SERVICES

National Toxicology Program (NTP); Report on Carcinogens (RoC) Availability of the Draft Background Documents on Captafol and ortho-Nitrotoluene and Request for Public Comment on the Draft Background Documents; Announcement of the Captafol and the ortho-Nitrotoluene Expert Panel Meeting

AGENCY: National Institute of Environmental Health Sciences (NIEHS); National Institutes of Health (NIH).

ACTION: Request for public comments and meeting announcement.

SUMMARY: The NTP announces the availability of the draft background documents for captafol and ortho-nitrotoluene on August 1, 2007, from the RoC Web site (http://ntp.niehs.nih.gov/go/10091 see captafol or ortho-nitrotoluene) or in printed text from the RoC (see FOR FURTHER INFORMATION CONTACT below). The NTP invites the submission of public comments on the two draft background documents (see SUPPLEMENTARY INFORMATION below). The expert panel will meet on October 15-16, 2007, at the Sheraton Chapel Hill Hotel, Chapel Hill, North Carolina, to peer review the draft background documents for captafol and ortho-nitrotoluene and once completed make a recommendation regarding the listing status (i.e., known to be a human carcinogen, reasonably anticipated to be a human carcinogen, or not to list) for captafol and ortho-nitrotoluene in the 12th Edition of the RoC (12th RoC). The RoC expert panel meeting is open to the public with time scheduled for oral public comments. Attendance is limited only by the available meeting room space. Following the expert panel meeting and completion of the expert panel report, the NTP will post the final version of the background documents and the expert panel peer review reports on the RoC Web site.

DATES: The expert panel meeting for captafol and ortho-nitrotoluene will be held on October 15-16, 2007. The draft background documents for these substances will be available for public comment on August 1, 2007. The deadline to submit written comments is October 3, 2007, and the deadline for pre-registration to attend the meeting and provide oral comments at the meeting is October 10, 2007. Persons needing special assistance, such as sign language interpretation or other reasonable accommodation in order to attend, should contact 919-541-2475 (voice), 919-541-4644 TTY (text telephone), through the Federal TTY Relay System at 800-877-8339, or by e-mail to: niehsoeeo@niehs.nih.gov. Requests should be made at least seven business days in advance of the event.

ADDRESSES: The RoC expert panel meeting on captafol and ortho-nitrotoluene will be held at the Sheraton Chapel Hill Hotel [One Europa Drive, Chapel Hill, North Carolina 27514, Phone: (919) 968-4900 FAX: (919) 968-3520]. Access to on-line registration and materials for the meeting is available on the RoC Web site: (http://ntp.niehs.nih.gov/go/roc see Expert Panel Meetings). Comments on the draft background documents should be sent to Dr. C.W. Jameson, RoC Director, NIEHS, P.O. Box 12233, MD EC-14, Research Triangle Park, NC 27709, FAX: (919) 541-0144, or jameson@niehs.nih.gov. Courier address: Report on Carcinogens, 79 T.W. Alexander Drive, Building 4401, Room 3118, Research Triangle Park, NC 27709.

FOR FURTHER INFORMATION CONTACT: Dr. C.W. Jameson, RoC Director, 919-541-4096, jameson@niehs.nih.gov.

SUPPLEMENTARY INFORMATION:

Background

On April 16, 2007 (72 FR 18999 available at http://ntp.niehs.nih.gov/go/9732), NTP announced the RoC review process for the 12th RoC. Captafol and ortho-nitrotoluene are the first two substances (of a total of 14 candidate substances) to undergo formal review. The draft background documents for these two candidate substances will be available on the RoC Web site on August 1, 2007, or in printed text from the RoC Director (see ADDRESSES above). Availability of the draft background documents for other candidate substances will be announced via the NTP listserv and on the RoC Web site and expert panel meetings to review these substances will be announced via the Federal Register. Persons can register free-of-charge with the NTP listserv to receive notification when draft background documents are posted (http://ntp.niehs.nih.gov/go/231).

Captafol (CAS RN: 2425-06-1) is a broad-spectrum fungicide that was widely used in the United States prior to the mid 1980s on fruits, vegetables, and other plants, as well as on timber products. In 1999, the U.S. Environmental Protection Agency revoked all captafol tolerances except those for onions, potatoes, and tomatoes. Although many countries have now banned its use, captafol is still registered in some countries (such as Mexico). The Food and Drug Administration continues to monitor for captafol residues in domestic and imported food. The potential exists for past, extensive exposure for workers producing captafol and for agricultural workers because of past production and use of millions of pounds of captafol.

Ortho-Nitrotoluene (CAS RN: 88-72-2) is used to synthesize agricultural and organic chemicals, explosives, azo and sulfur dyes, and dyes for cotton, wool, silk, leather, and paper. ortho-Nitrotoluene is a high production volume (HPV) chemical, and its U.S. production was between 10 million and 50 million pounds for every four-year reporting period from 1986 to 2002. Exposure to ortho-nitrotoluene in the United States is primarily a result of occupational exposure during the production and use of this chemical.

Request for Comments

The NTP invites written public comments on the draft background documents on captafol and ortho-nitrotoluene. All comments received will be posted on the RoC Web site prior to the meeting and distributed to the expert panel and RoC staff for their consideration in the peer review of the draft background documents and/or preparing for the expert panel meeting. Persons submitting written comments are asked to include their name and contact information (affiliation, mailing address, telephone and facsimile numbers, e-mail, and sponsoring organization, if any) and send them to Dr. Jameson (see ADDRESSES above) for receipt by October 3, 2007. Time is set aside on October 15-16, 2007, for the presentation of oral public comments at the expert panel meeting. Seven minutes will be available for each speaker (one speaker per organization). Persons can register on-line to present oral comments or contact Dr. Jameson (see ADDRESSES above). When registering to comment orally, please provide your name, affiliation, mailing address, telephone and facsimile numbers, email and sponsoring organization (if any). If possible, send a copy of the statement or talking points to Dr. Jameson by October 10, 2007. This statement will be provided to the expert panel to assist them in identifying issues for discussion and will be noted in the meeting record. Registration for presentation of oral comments will also be available at the meeting on October 15-16, 2007, from 7:30-8:30 a.m. Persons registering at the meeting are asked to bring 25 copies of their statement or talking points for distribution to the expert panel and for the record.

Preliminary Agenda, Availability of Meeting Topics and Registration

Preliminary agenda topics include:

• Oral public comments on captafol

• Peer review of the background document on captafol

• Recommendation for listing status for captafol in the 12th RoC

• Oral public comments on ortho-nitroluene

• Peer review of the background document on ortho-nitrotoluene

• Recommendation for listing status for ortho-nitrotoluene in the 12th RoC

The meeting is scheduled for October 15-16, 2007, from 8:30 a.m. to adjournment each day. The review of ortho-nitrotoluene will immediately follow the review of captafol. A copy of the preliminary agenda, expert panel roster, and any additional information, when available, will be posted on the RoC Web site or may be requested from the RoC Director (see ADDRESSES above). Individuals who plan to attend the meeting are encouraged to register on-line by October 10, 2007, to facilitate planning for the meeting.

Background Information on the RoC

The RoC is a Congressionally mandated document that identifies and discusses agents, substances, mixtures, or exposure circumstances (collectively referred to as “substances”) that may pose a hazard to human health by virtue of their carcinogenicity. Substances are listed in the report as either known or reasonably anticipated human carcinogens. The NTP prepares the RoC on behalf of the Secretary of Health and Human Services. Information about the RoC and the nomination process can be obtained from its homepage (http://ntp.niehs.nih.gov/go/roc) or by contacting Dr. Jameson (see FOR FURTHER INFORMATION CONTACT above). The NTP follows a formal, multi-step process for review and evaluation of selected chemicals. The formal evaluation process is available on the RoC Web site: (http://ntp.niehs.nih.gov/go/15208) or in printed copy from the RoC Director.

Dated: July 20, 2007.
David A. Schwartz,
Director, National Institute of Environmental Health Sciences, and National Toxicology Program.

[FR Doc. E7-14689 Filed 7-30-07; 8:45 am]

BILLING CODE 4140-01-P